DEPARTMENT OF THE INTERIOR

Bureau of Land Management

[LLCACO8000 L16100000 DX0000]

Notice of Establishment of Interim Final Supplementary Rules for Public Lands Managed by the Mother Lode Field Office, California

AGENCY: Bureau of Land Management, Interior.

ACTION: Notice of Establishment of Interim Final Supplementary Rules.

SUMMARY: In accordance with the Record of Decision for the Sierra Resource Management Plan (RMP), the Bureau of Land Management (BLM), Mother Lode Field Office, is issuing interim final supplementary rules and requesting comments. These interim final supplementary rules will apply to public lands managed by the Mother Lode Field Office and will be effective upon publication and remain in effect until the publication of final supplementary rules. The BLM has determined that these interim final supplementary rules are necessary to enhance the safety of visitors, protect natural and cultural resources, improve recreational opportunities, and protect public health. All of these interim final supplementary rules implement management decisions contained in the Sierra RMP. These rules do not propose or implement any land use limitations or restrictions other than those included within the BLM's decisions in the RMP or allowed under existing law or regulation.

DATES: The interim final supplementary rules are effective on May 13, 2010. We invite comments until July 12, 2010.

ADDRESSES: Mail or hand deliver all comments concerning the interim final supplementary rules to the BLM, Mother Lode Field Office, 5152 Hillsdale Circle, El Dorado Hills, California 95762.

FOR FURTHER INFORMATION CONTACT: James Barnes, Bureau of Land Management, Mother Lode Field Office, 5152 Hillsdale Circle, El Dorado Hills, California 95762 or e-mail jjbarnes@blm.gov.

SUPPLEMENTARY INFORMATION:

I. Public Comment Procedures

Written comments on the interim final supplementary rules should be specific, confined to issues pertinent to the interim final supplementary rules, and should explain the reason for any recommended change. The Record of Decision (ROD) for the Sierra RMP was signed in February 2008 and represents the final decision of the BLM California State Director regarding management of lands within the approximately 231,000-acre planning area to which these rules apply. Therefore, comments requesting changes to the RMP decisions which will be implemented by these interim final supplementary rules are outside the scope of this comment period. Where possible, comments should reference the specific section or paragraph of the rule that the comment is addressing. The BLM need not consider or include in the Administrative Record for the final rule: (a) Comments that the BLM receives after the close of the comment period (see DATES), unless they are postmarked or electronically dated before the deadline, or (b) comments delivered to an address other than those listed above (see ADDRESSES).

Comments, including names, street addresses, and other contact information of respondents, will be available for public review at the Mother Lode Field Office, 5152 Hillsdale Circle, El Dorado Hills, California 95762 during regular business hours 7:30 a.m. to 4:30 p.m., Monday through Friday, except Federal holidays. Individual respondents may request confidentiality. Before including your address, telephone number, e-mail address, or other personal identifying information in your comment, you should be aware that your entire comment—including your personal identifying information—may be made publicly available at any time. While you can ask us in your comment to withhold your personal identifying information from public review, we cannot guarantee that we will be able to do so.

II. Background

The BLM is establishing these interim final supplementary rules under the authority of 43 CFR 8365.1-6, which allows BLM State Directors to establish supplementary rules for the protection of persons, property, and public lands and resources.

The supplementary rules are available for inspection in the Mother Lode Field Office and at the following Web site: http://www.ca.blm.gov/motherlode. The overall program authority for the operation of this area is found in the Federal Land Policy and Management Act of 1976 (43 U.S.C. 1732, 1740). The planning area for the Sierra RMP includes portions of Yuba, Nevada, Placer, El Dorado, Amador, Calaveras, Tuolumne, Mariposa, Sacramento, and Stanislaus counties, California.

The BLM finds good cause to publish these supplementary rules on an interim final basis, effective on the date of publication because of public health and safety concerns and resource protection needs within the management area.

All of the interim final supplementary rules implement management decisions contained in the Sierra RMP. The Mother Lode Field Office has taken the following steps to involve the public in developing the planning decisions that provide a basis for the interim final supplementary rules:

Public Scoping: The BLM conducted nine public scoping meetings between January 12 and August 15, 2002. Nearly 200 members of the public attended the meetings held in Colfax, Grass Valley, Placerville, Jackson, San Andreas, Sonora, Mariposa, and Galt, California. Announcement of these meetings and notification of the scoping period were made through the Mother Lode Field Office's Web site, news releases in local publications, and mailings to Native American Tribes, Federal, State and local agencies, interested groups/individuals, and other members of the public. Presentations were made to county supervisors and State agencies.

Public Review of the Draft RMP: The Sierra Draft RMP/Draft Environmental Impact Statement (EIS) was released to the public for a 90-day comment period, ending on December 13, 2006. During this review period, four public meetings were held to explain the Draft RMP/EIS and to encourage the public to comment. Approximately 40 members of the public attended the meetings held in Grass Valley, Mariposa, Sonora, and Placerville, California. The public was notified about the comment period via mailings, news releases, and Web sites. The Draft RMP/EIS was available in electronic and hard copy formats.

The BLM received approximately 2,000 comments on the Draft RMP/EIS from the public, government agencies, and Tribes. A summary of the issues identified in the public comment letters and the BLM's response to these issues is included in Appendix F of the proposed RMP/Final EIS. All decisions related to the interim final supplementary rules were analyzed in the Final EIS.

The BLM submitted the Draft and Proposed Sierra RMP to the Governor's Office of Planning and Research. No State agencies commented on the RMP and the BLM received a letter of confirmation that the RMP complied with State review requirements on August 17, 2007. The State Historic Preservation Office and the U.S. Fish and Wildlife Service also reviewed the draft and proposed RMP.

Based on public safety and resource protection concerns and due to the multiple opportunities for public involvement during development of the RMP decisions that provide a basis for these rules, the BLM finds good cause to issue these rules as interim final supplementary rules. The rules related to hunting and target shooting will help prevent accidental shooting-related injuries and fatalities in areas with high recreational use or in areas in close proximity to private residences. The rules related to camping and campfire use will help prevent wildfire ignition. The rules related to trail use will help prevent resource damage. The public is now invited to provide additional comments on the interim final supplementary rules.

III. Procedural Matters

Executive Order 12866, Regulatory Planning and Review

These interim final supplementary rules are not a significant regulatory action and are not subject to review by the Office of Management and Budget under Executive Order 12866. These interim final supplementary rules will not have an annual effect of $100 million or more on the economy or adversely affect, in a material way, the economy, productivity, competition, jobs, the environment, public health or safety, or State, local, or Tribal governments or communities. These interim final supplementary rules will not create a serious inconsistency or otherwise interfere with an action taken or planned by another agency. The interim final supplementary rules do not materially alter the budgetary effects of entitlements, grants, user fees, or loan programs or the right or obligations of their recipients; nor do they raise novel legal or policy issues. They merely impose certain rules on recreational activities on a limited portion of the public lands in California in order to protect human health, safety, and the environment.

Clarity of the Interim Final Supplementary Rules

Executive Order 12866 requires each agency to write regulations that are simple and easy to understand. We invite your comments on how to make these interim final supplementary rules easier to understand, including answers to questions such as the following:

(1) Are the requirements in the interim final supplementary rules clearly stated?

(2) Do the interim final supplementary rules contain technical language or jargon that interferes with their clarity?

(3) Does the format of the interim final supplementary rules (grouping and order of sections, use of headings, paragraphing, etc.) aid or reduce their clarity?

(4) Would the interim final supplementary rules be easier to understand if they were divided into more (but shorter) sections?

(5) Is the description of the interim final supplementary rules in the SUPPLEMENTARY INFORMATION section of this preamble helpful in understanding the interim final supplementary rules? How could this description be more helpful in making the interim final supplementary rules easier to understand?

Please send any comments you have on the clarity of the interim final supplementary rules to the address specified in the ADDRESSES section.

National Environmental Policy Act

These interim final supplementary rules themselves do not constitute a major Federal action significantly affecting the quality of the human environment under Section 102(2)(C) of the National Environmental Policy Act (NEPA) of 1969, 42 U.S.C. 4332(2)(C). However, they are a component of a larger plan (the Sierra RMP) that constitutes a major Federal action. The BLM prepared Draft and Final EISs as part of the development of the Sierra RMP. During that NEPA process, the proposed decisions, including the substance of these interim final supplementary rules, were fully analyzed. The pertinent analysis can be found in Chapter 2, Alternatives, of the Sierra Proposed Resource Management Plan and Final EIS (May 2007). The ROD for the RMP was signed by the BLM California State Director in February 2008.

All of the interim final supplementary rules were addressed in the Sierra RMP. Some were fully analyzed in the RMP/EIS and some were analyzed in earlier NEPA analyses and were adopted in the RMP. Some of these earlier analyses include activity plans for various special management areas, such as the South Yuba River, Round Mountain/Rock Creek Forest, South Fork American River (including the Cronan Ranch), Pine Hill Preserve, and Cosumnes River Preserve.

The activity plan decisions, including rules of conduct for recreational use, were analyzed in environmental assessments (EA) prepared as part of the NEPA process for each planning effort. Pertinent analysis can be found in the 2005 South Yuba River Comprehensive Management Plan (Chapter 3); 2003 Round Mountain/Rock Creek Forest Management Plan (pp. 22-25); 2004 South Fork American River Management Plan (Section 2); 2007 Cronan Ranch Management Plan (Sections 2.3-25); 2008 Pine Hill Preserve Management Plan (pp. 39-44); and the 2008 Cosumnes River Preserve Management Plan.

These interim final supplementary rules provide for implementation of plan decisions. The rationale for the decisions is fully covered in the Final EIS for the Sierra RMP as well as the EAs and decision records for the associated activity plans outlined above. The Sierra RMP and other relevant land-use plans are available for review at the address specified in the ADDRESSES section.

Regulatory Flexibility Act

Congress enacted the Regulatory Flexibility Act (RFA) of 1980, as amended, 5 U.S.C. 601-612, to ensure that government regulations do not unnecessarily or disproportionately burden small entities. The RFA requires a regulatory flexibility analysis if a rule would have a significant economic impact, either detrimental or beneficial, on a substantial number of small entities. The interim final supplementary rules do not pertain specifically to commercial or governmental entities of any size, but to public recreational use of specific public lands. Therefore, the BLM has determined under the RFA that these interim final supplementary rules would not have a significant economic impact on a substantial number of small entities.

Small Business Regulatory Enforcement Fairness Act (SBREFA)

These interim final supplementary rules do not constitute a “major rule” as defined at 5 U.S.C. 804(2). The interim final supplementary rules merely contain rules of conduct for recreational use of certain public lands. The interim final supplementary rules have no effect on business, commercial, or industrial use of the public lands.

Unfunded Mandates Reform Act

These interim final supplementary rules do not impose an unfunded mandate on State, local, or Tribal governments in the aggregate, or the private sector, of more than $100 million per year; nor do they have a significant or unique effect on State, local, or Tribal governments. These interim final supplementary rules do not require anything of State, local, or Tribal governments. Therefore, the BLM is not required to prepare a statement containing the information required by the Unfunded Mandates Reform Act (2 U.S.C. 1531 et seq.).

Executive Order 12630, Governmental Actions and Interference With Constitutionally Protected Property Rights (Takings)

The interim final supplementary rules are not a government action capable of interfering with constitutionally protected property rights. The interim final supplementary rules do not address property rights in any form, and do not cause the impairment of anybody's property rights. Therefore, the Department of the Interior has determined that these interim final supplementary rules would not cause a taking of private property or require further discussion of takings implications under this Executive Order.

Executive Order 13132, Federalism

The interim final supplementary rules will not have a substantial direct effect on the States, on the relationship between the national government and the States, or on the distribution of power and responsibilities among the various levels of government. The interim final supplementary rules affect land in only one State, California. Therefore, the BLM has determined that these interim final supplementary rules do not have sufficient Federalism implications to warrant preparation of a Federalism Assessment.

Executive Order 12988, Civil Justice Reform

Under Executive Order 12988, the Office of the Solicitor has determined that these interim final supplementary rules will not unduly burden the judicial system and that the requirements of sections 3(a) and 3(b)(2) of the Order are met. The supplementary rules include rules of conduct and prohibited acts, but they are straightforward and not confusing, and their enforcement should not unreasonably burden the United States Magistrate who will try any persons cited for violating them.

Executive Order 13175, Consultation and Coordination With Indian Tribal Governments

These interim final supplementary rules provide for enforcement of decisions adopted in the ROD for the Sierra RMP which concerns all lands administered by the Mother Lode Field Office. The rules were thoroughly analyzed in the Draft and Final EIS prepared for the RMP. During preparation of the RMP, government-to-government consultation was conducted with 10 Federally recognized Tribal governments with interests in the affected area. These Tribes were provided copies of the Draft and Proposed RMP and associated EIS, and were contacted directly by the BLM requesting comments and assessing the need for a Tribal briefing. None of these Tribal governments expressed concerns regarding the decisions these supplementary rules are designed to enforce. Therefore, in accordance with Executive Order 13175, the BLM has found that these supplementary rules do not include policies that have Tribal implications.

Information Quality Act

In developing these supplementary rules, the BLM did not conduct or use a study, experiment or survey requiring peer review under the Information Quality Act (Section 515 of Pub. L. 106-554.).

Executive Order 13211, Effects on the Nation's Energy Supply

These supplementary rules do not comprise a “significant energy action,” as defined in Executive Order 13211, since they are not likely to have a significant adverse effect on the supply, distribution, or use of energy.

Paperwork Reduction Act

These interim final supplementary rules do not directly provide for any information collection that the Office of Management and Budget must approve under the Paperwork Reduction Act, 44 U.S.C. 3501 et seq. Any information collection that may result from Federal criminal investigations or prosecutions conducted under these proposed supplementary rules are exempt from the provisions of the Paperwork Reduction Act of 1995, 44 U.S.C. 3518(c)(1).

Author

The principal author of these interim final supplementary rules is James Barnes, Archaeologist, Mother Lode Field Office.

For the reasons stated in the preamble and under the authority for supplementary rules found in 43 CFR 8365.1-6, the California State Director, Bureau of Land Management hereby issues supplementary rules, effective on an interim final basis upon publication, for public lands managed by the Mother Lode Field Office to read as follows:

Supplementary Rules for the Sierra Resource Management Plan Planning Area

Section 1 Definitions

Alcoholic beverage: Any liquid or solid containing alcohol, spirits, wine, or beer, which contains one-half of one percent or more of alcohol by volume and which is fit for beverage purposes either alone or when diluted, mixed, or combined with other substances.

Camp: Erecting a tent or a shelter of natural or synthetic material, preparing a sleeping bag or other bedding material, or parking of a motor vehicle, motor home, or trailer for the purpose or apparent purpose of overnight occupancy.

Campfire: A controlled fire occurring out of doors, used for cooking, branding, personal warmth, lighting, ceremonial or aesthetic purposes.

Designated site and zone: A specific location identified by the BLM for camping or other purposes.

Designated trail: A trail developed, maintained, and explicitly identified by the BLM for public non-motorized use. All designated trails will be identified by a combination of maps and signing.

Firearm: A device that expels a projectile such as a bullet, dart, or pellet by combustion, air pressure, gas pressure, or other means.

Hunt: Taking or attempting to take wildlife by any means, except by trapping or fishing.

Motorized vehicle: Any motorized transportation conveyance designed and licensed for use on roadways, such as an automobile, bus, or truck, and any motorized conveyance originally equipped with safety belts.

Target shoot: Discharging a firearm for any purpose other than hunting or self-defense.

South Yuba River Special Recreation Management Area

T. 17 N., R. 7 E.,

Sec. 36;

T. 16 N., R. 7 E.,

Sec. 2;

T. 17 N., R. 8 E.,

Secs. 13, 24, 26 (excluding NE ¼ NE ¼), 28, 30, and 34;

T. 17 N., R. 9 E.,

Secs. 9, 10, 13, 14, 15, 16 (excluding lot 12), 17, 18 (excluding NE ¼ NE ¼), 19, 20, 22, 29, and 30;

Mount Diablo Meridian (MDM).

Edwards Crossing day use area/high use zone: From one quarter mile downstream from Edwards Crossing Bridge to half a mile upstream from Edwards Crossing bridge and within one quarter mile of each side of the South Yuba River.

Purdon Crossing day use area/high use zone: From one quarter mile downstream from Purdon Crossing bridge to 100 yards upstream from China Dam and within one quarter mile of each side of the South Yuba River.

Hoyt Crossing day use area/high use zone: All public lands within T. 17 N., R. 8 E., Sec. 28 within one quarter mile of each side of the South Yuba River.

Round Mountain/Rock Creek Forest Management Area

T. 17 N., R. 8 E.,

Secs. 24 (all public lands above the 2,400-foot contour) and 26 (NE ¼ NE ¼);

T. 17 N., R. 9 E.,

Secs. 19 (all public lands above the 2,700-foot contour), 20 (all public lands above the 2,900-foot contour), 22 (all public lands above the 2,600-foot contour), 28 (S ½ SE ¼ NE ¼), 29, and 30; MDM.

North Fork American River Special Recreation Management Area

T. 15 N., R. 9 E.,

Secs. 26, 35, and 36;

T. 15 N., R. 10 E.,

Secs. 1 (except Lot 2 in the E ½ of Sec. 1, the E ½ of Lot 1 in the W ½ of Sec. 1 and the E ½ of Lot 2 in the W ½ of Sec. 1), 2, 9, 10, 11 (except lands in the NW ¼ and in the SE ¼ that are more than a quarter mile from the river), 15 (except lands in the E ½ and in the SW ¼ of Sec. 15 that are more than a quarter mile from the river), 16 (except in the W ½), 20, 21, 22, 27 (only in lots 1, 2, 19, 29, 30 and 33), 28, 29, 30, 32 and 33 (only in lots 16, 53, 76 and 77 and in the N ½ N ½ NW ¼ of Sec. 33); MDM.

South Fork American River Special Recreation Management Area

T. 11 N., R. 10 E.,

Secs. 22, 26 (SW ¼), 27, and 34 (Miner's Cabin parcel);

T. 11 N., R. 10 E.,

Sec. 21;

T. 11 N., R. 10 E.,

Sec. 18 Lots 5 and 6 (Parcel C);

T. 11 N., R. 10 E.,

Sec. 18 NW ¼ NE ¼ NW ¼ (Ponderosa parcel);

T. 11 N., R. 9 E.,

Sec. 12, Lots 1 to 9 (Dave Moore Nature Area);

T. 11 N., R. 9 E.,

Secs. 3, 10, and 11 (Greenwood Creek parcel);

T. 11 N., R. 9 E.,

Secs. 4, 8, 9, 15, 16, and 17 (Cronan Ranch);

T. 11 N., R. 9 E., 29, 28, 21, and 20 (Norton Ravine parcel);

T. 11 N., R. 9 E.,

Secs. 30, 31, 32;

T. 10 N., R. 9 E.,

Secs. 4 and 6;

T. 11 N., R. 8 E.,

Sec. 36 (Pine Hill Preserve); MDM.

Pine Hill Preserve Area of Critical Environmental Concern (ACEC)

T. 11 N., R. 9 E.,

Secs. 30, 31, and 32;

T. 11 N., R. 8 E.,

Sec. 36;

T. 10 N., R. 9 E.,

Secs. 4, 6, 7, 9, 10, 14, 18, and 34;

T. 9 N., R. 9 E.,

Secs. 2 and 3; MDM.

Cosumnes River Preserve ACEC

T. 5 N., R. 5 E.,

Secs. 15, 16, 17, 20, 21, 22, 23, 25 and 26;

T. 5 N., R. 6 E.,

Sec. 30; MDM; tracts 19 and 20, Rancho San Jon De Los Mokelumnes, Sacramento County, CA.

Ione Manzanita ACEC

T. 5 N., R. 10 E.,

Secs. 16, 17, 32, and 33;

T. 7 N., R. 9 E.,

Sec. 18, 28, and 33; MDM.

Red Hills ACEC

T. 1 S., R. 13 E.,

Secs. 1, 2 (SE ¼, and SE ¼ SW ¼, and lot 7), 11, 12, 13;

T. 1 S., R. 14 E.,

Secs. 6, 7, 8, 16, 17, 18, 19, 20, 21, 22, 23, 24, 25, 26, 27, 28, 29, 34, 35;

T. 1 S., R. 15 E.,

Secs. 18 (east half of lot 19, and 21), 19, 30, and 31;

T. 2 S., R. 15 E.,

Sec. 6 (except lot 10);

T. 2 S., R. 14 E.,

Sec. 1; MDM.

Merced River Special Recreation Management Area

T. 3 S., R. 16 E.,

Sec. 36 (east of Highway 49);

T. 3 S., R. 17 E.,

Secs. 31, 32, 33, 34, 35, 36;

T. 3 S., R. 18 E.,

Secs. 25, 26, 27 (E ½ SE ¼), 31, 32, 33, 34, 35, 36;

T. 4 S., R. 17 E.,

Secs. 1, 2, 3, 4, 5, 6 (east of Highway 49), 8 (north of the Merced River), 9, 10, 11, 12, 13, 14, 15, 16, 22, 23, 24 (N ½);

T. 4 S., R. 18 E.,

Secs. 2 (west of Highway 140), 3, 4, 5, 6, 7, 8, 9, 10, 11 (west of Highway 140), 15, 16, 17, and 18; MDM.

Section 2 Supplementary Rules of Conduct

The following rules apply year-round to all visitors unless explicitly stated otherwise in a particular rule.

The following rules apply to all lands managed by the Mother Lode Field Office:

Target shooting and hunting (in accordance with State law) is allowed on public lands unless the area is signed closed by the BLM or the area is closed by another rule.

All public lands in MDM, T. 4 N., R. 10 E., Sec. 3 NE ¼ and MDM, T. 5 N., R. 10 E., Sec. 34 SE ¼, near Campo Seco, are closed to target shooting.

All public lands in MDM, T. 7 N., R. 13 E., Sec. 27, Sec. 34 (north of the Mokelumne River), Sec. 26 (north of the Mokelumne River) and Sec. 23 (north of the Mokelumne River) are closed to target shooting.

The following rules apply to the South Yuba River Special Recreation Management Area:

Within one quarter mile of each side of the South Yuba River, campfires are allowed only in BLM-provided fire rings and pedestal grills in designated sites.

Only hands and pans may be used to recover gold within one quarter mile of each side of the South Yuba River, unless a special recreation use permit has been issued by the BLM or mining claim operations are being conducted pursuant to 43 CFR 3809.

Glass containers, empty or not, are not allowed within one quarter mile of each side of the South Yuba River; however, glass containers left or discarded by others may be picked up for recycling or put in a trash receptacle.

The following rules apply to the Hoyt Crossing, Purdon Crossing, and Edwards Crossing day use areas/high use zones within the South Yuba River Special Recreation Management Area:

Hunting is not allowed.

Alcoholic beverages are not allowed unless they are being transported through these day use areas/high use zones.

Dogs must be kept on leashes and under direct control from May 1 to September 30 each year.

The following rules apply to the Purdon Crossing day use area/high use zone within the South Yuba River Special Recreation Management Area:

Vehicles may only be parked in designated parking spaces at night for the purposes of camping in designated sites and zones.

The following rules apply to the Round Mountain Forest Management Area:

Camping is not allowed.

Campfires are not allowed.

Target shooting is not allowed.

Riding horses, mountain bikes, and other non-motorized conveyances is allowed only on designated trails.

The following rules apply to the North Fork American River Special Recreation Management Area:

Target shooting is allowed, in accordance with State law, unless a specific area is signed closed by the BLM. All public lands located in MDM, T. 15 N., R. 9 E., Sec. 26 are closed to target shooting.

The following rules apply to the South Fork American River Special Recreation Management Area:

Riding horses, mountain bikes, and other non-motorized conveyances is allowed only on designated trails.

Target shooting is not allowed.

Camping is allowed, for a fee, only in designated sites and zones after obtaining a special recreation use permit issued by the BLM.

Campfires are allowed only in BLM-provided fire rings and fire pans located within designated sites and zones.

The following rules apply to the Cronan Ranch parcel within the South Fork American River Special Recreation Management Area:

Hunting is allowed only with the following types of firearms: bow and arrows, smoothbore shotguns, and muzzleloaders. Muzzleloaders are allowed only after fire season is declared over by the BLM.

Hunting for bear, squirrels, rabbits, jackrabbits, waterfowl, furbearers, or non-game species is not allowed.

Deer hunting is allowed only during the summer open season with bows and arrows and during the fall open season with smoothbore shotguns and slugs.

Turkey hunting is allowed only during the fall open season with smoothbore shotguns and shot shells.

The following rules apply to the Greenwood Creek parcel within the South Fork American River Special Recreation Management Area:

Only hands and pans may be used to recover gold unless a special recreation use permit issued by the BLM has been obtained or mining claim operations are being conducted pursuant to 43 CFR 3809.

Gold may not be recovered from Greenwood Creek.

The following rules apply to the Ponderosa parcel within the South Fork American River Special Recreation Management Area:

Hunting is not allowed.

Camping is not allowed.

The following rules apply to Parcel C within the South Fork American River Special Recreation Management Area:

Hunting is not allowed.

The following rules apply to the Dave Moore Nature Area within the South Fork American River Special Recreation Management Area:

Hunting is not allowed.

The following rules apply to the Pine Hill Preserve ACEC:

Camping is not allowed.

Target shooting is not allowed.

Riding horses, mountain bikes, and other non-motorized conveyances is allowed only on designated trails.

The following rules apply to the Cosumnes River Preserve ACEC:

Motorized boats may not be launched from the Preserve's dock.

Target shooting is not allowed.

Hunting is not allowed without a special recreation use permit issued by the BLM.

Camping is not allowed.

Riding horses, mountain bikes, and other non-motorized conveyances is allowed only on designated trails.

The following rules apply to the Ione Manzanita ACEC:

The Ione Manzanita ACEC is closed to all public entry, unless written permission from the BLM has been obtained, to prevent the spread of the plant disease Phytophthora cinnamomi.

The following rules apply to the Red Hills ACEC:

Camping is not allowed.

Target shooting is not allowed.

Riding horses, mountain bikes, and other non-motorized conveyances is allowed only on designated trails.

The following rules apply to the Merced River Special Recreation Management Area:

Camping is not allowed on the south side of the Merced River (within one quarter mile of each side of the river), unless written permission from the BLM has been obtained.

Exceptions for Official Use

Federal, State, and local law enforcement officers, government employees, and BLM volunteers are exempt from these supplementary rules in the course of their official duties. Limitations on the use of motorized vehicles do not apply to emergency vehicles, fire suppression and rescue vehicles, and other vehicles performing official duties, or as approved by an authorized officer of the BLM.

Section 3 Penalties

Any person who violates any of these interim final supplementary rules may be tried before a United States Magistrate and fined no more than $1,000 or imprisoned for no more than 12 months, or both. 43 U.S.C. 1733(a); 43 CFR 8360.0-7; 43 CFR 2932.57(b). Such violations may also be subject to the enhanced fines provided for by 18 U.S.C. 3571. You may also be subject to civil action for unauthorized use of the public lands, violations of special recreation permit terms, conditions, or stipulations, or for uses beyond those allowed by the permit. (43 CFR 2932.57(b)(2)).

James Wesley Abbott,
Acting State Director, California State Office.

[FR Doc. 2010-11464 Filed 5-12-10; 8:45 am]

BILLING CODE 4310-40-P